PEACE CORPS

22 CFR Part 310

Governmentwide Debarment and Suspension (Nonprocurement)

CFR Correction

In Title 22 of the Code of Federal Regulations, Parts 300 to 1799, revised as of April 1, 2007, on page 49, the appendix to Part 310 is removed.

[FR Doc. 08-55503 Filed 3-18-08; 8:45 am]

BILLING CODE 1505-01-D